DEPARTMENT OF HEALTH AND HUMAN SERVICES

Centers for Medicare and Medicaid Services

[Document Identifier: CMS-10195]

Emergency Clearance: Public Information Collection Requirements Submitted to the Office of Management and Budget (OMB)

AGENCY: Center for Medicare and Medicaid Services.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures because of an unanticipated event.

The purpose of the Medicare Recovery Audit Contractor (RAC) Demonstration Project is to evaluate the cost and savings to the Medicare program and to make appropriate recommendations to Congress on the cost-effectiveness of extending or expanding the project. Because RACs have been used successfully in non-Medicare markets, The Centers for Medicare and Medicaid Services (CMS) is conducting this demonstration project to test new techniques for identifying and collecting overpayments.

This is a request for OMB approval of a Provider Satisfaction Survey to assess the impact of Medicare Recovery Audit Contractors (RACs) on the provider community. The Centers for Medicare and Medicaid Services (CMS) has contracted with Econometrica, Inc. to conduct an independent evaluation of the Medicare RAC demonstration. The results, which will be summarized in a report to Congress, will be used to assess the financial impact of the demonstration on the Medicare program and to make recommendations for the demonstration's extension or expansion. Previous research by the U.S. Government Accountability Office found that RACs have the potential to burden private providers. The purpose of this study is to determine whether RACs can perform effectively with a low risk of burden and friction with healthcare providers.

1. Type of Information Collection Request: New collection; Title of Information Collection: Evaluation of Medicare Recovery Audit Contractor (RAC) Demonstration Provider Satisfaction Survey; Use: The purpose of the RAC Provider Satisfaction Survey is to gauge provider communications and satisfaction with the RACs. Measuring providers' reactions to and experiences with RACs will enable CMS better understand the potential impact of the RACs on providers nationwide and to improve and refine the process, both in the context of the current demonstration as well as in future reform initiatives. The survey will cover all aspects of provider transactions with RACs. Form Number: CMS-10195 (OMB#: 0938-NEW); Frequency: Reporting—One-time; Affected Public: Business or other for-profit; Number of Respondents: 1,200; Total Annual Responses: 1,200; Total Annual Hours: 276.

CMS is requesting OMB review and approval of this collection by July 7, 2006, with a 180-day approval period. Written comments and recommendation will be considered from the public if received by the individuals designated below by July 3, 2006.

To obtain copies of the supporting statement and any related forms for the proposed paperwork collections referenced above, access CMS' Web site address at http://www.cms.hhs.gov/regulations/pra or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by July 3, 2006:

CMS, Office of Strategic Operations and Regulatory Affairs, Division of Regulations Development—B, Attn: William N. Parham, III, Room C4-26-05, 7500 Security Boulevard, Baltimore, MD 21244-1850, and

OMB Human Resources and Housing Branch, Attention: Carolyn Lovett, New Executive Office Building, Room 10235, Washington, DC 20503. Fax Number: (202) 395-6974.

Dated: May 26, 2006.
Michelle Shortt,
Director, Regulations Development Group, Office of Strategic Operations and Regulatory Affairs.

[FR Doc. 06-5134 Filed 6-1-06; 2:37 pm]

BILLING CODE 4120-01-P